COMMISSION ON CIVIL RIGHTS

Agenda and Notice of Public Meeting of the California Advisory Committee

Notice is hereby given, pursuant to the provisions of the rules and regulations of the U.S. Commission on Civil Rights, that a planning meeting with briefing of the California Advisory Committee to the Commission will convene at 10 a.m. and adjourn at 4 p.m. on Wednesday, November 20, 2002, at the Sacramento Convention Center, Room 103, 1030 15th Street, Sacramento, California 95814. The Committee will discuss with local officials post-9/11 issues.

Persons desiring additional information, or planning a presentation to the Committee, should contact Philip Montez, Director of the Western Regional Office, 213-894-3437 (TDD 213-894-3435). Hearing-impaired persons who will attend the meeting and require the services of a sign language interpreter should contact the Regional Office at least ten (10) working days before the scheduled date of the meeting.

The meeting will be conducted pursuant to the provisions of the rules and regulations of the Commission.

Dated in Washington, DC, October 9, 2002.
Les Jin,
Staff Director, Office of the Staff Director.

[FR Doc. 02-26265 Filed 10-15-02; 8:45 am]

BILLING CODE 6335-01-P